GENERAL SERVICES ADMINISTRATION

Notice of Availability of the Draft Environmental Assessment for Improvements to the Nogales Mariposa U.S. Port of Entry, Nogales, Arizona

AGENCY: Public Buildings Service, GSA

ACTION: Notice of Availability and Public Hearing.

SUMMARY: The General Services Administration (GSA) announces the availability of the Draft Environmental Assessment (EA) for Improvements to the Nogales Mariposa U.S. Port of Entry, Nogales, Arizona, for public review and comment. The EA provides GSA and its stakeholders an analysis of the environmental impacts resulting from ongoing operations as well as reasonable alternatives for new operations and facilities at the Nogales Mariposa U.S. Port of Entry, located in southern Arizona.

DATES: Written comments on the Draft EA are invited from the public and may be submitted during the comment period, which begins today and ends November 30, 2007 (see ADDRESSES section for more details). Comments must be postmarked by November 30, 2007, to ensure consideration. The GSA will use the comments received to help prepare the final version of the Nogales Mariposa U.S. Port of Entry EA. A public meeting on the Draft EA will be held on Tuesday, October 16, 2007, from 4 p.m. to 8 p.m. at the Santa Cruz County Office Building, 2150 North Congress Drive, Nogales, Arizona.

The hearing will provide opportunities for information exchange and discussion between GSA and the public, as well as for submitting prepared statements. For more information call (619)557-6169.

ADDRESSES: Comments may be submitted in writing to: Greg Smith, NEPA Project Manager, GSA, 880 Front St., Room 4236, San Diego, CA 92101, or via e-mail to greg.smith@gsa.gov. Oral and written comments may also be submitted at the public hearing described in the DATES section. Copies of the Draft Nogales Mariposa U.S. Port of Entry EA may be downloaded from http:\\www.gsa.gov/nepalibrary. Other matters regarding this environmental review should be referred to Greg Smith at the address above.

SUPPLEMENTARY INFORMATION: A notice of availability will be mailed to all agencies, organizations, and individuals who participated in the scoping process or were identified during the EA process. GSA has distributed copies of the Draft Nogales Mariposa U.S. Port of Entry EA to appropriate agencies of, the state of Arizona, local county governments, other federal agencies, and other interested parties who have already requested copies.

After the public comment period, which ends November 30, 2007, GSA will consider the comments received, revise the Draft EA if necessary, and issue a Final EA. GSA will consider the Final EA, along with other economic and technical considerations, to make a decision on the appropriate course for improvements to the Nogales Mariposa U.S. Port of Entry.

Dated: September 28, 2007.
Peter G. Stamison,
Regional Administrator,Pacific Rim Region.

[FR Doc. E7-19662 Filed 10-3-07; 8:45 am]

BILLING CODE 6820-YF-S